NATIONAL CREDIT UNION ADMINISTRATION

Sunshine Act Meetings

TIME AND DATE: 10:00 a.m., Thursday, June 10, 2021.

PLACE: Due to the COVID-19 Pandemic, the meeting will be held via teleconference.

STATUS: Closed.

MATTERS TO BE CONSIDERED:

1. Board Appeal. Closed pursuant to Exemption (8).

CONTACT PERSON FOR MORE INFORMATION: Melane Conyers-Ausbrooks, Secretary of the Board, Telephone: 703-518-6304.

Melane Conyers-Ausbrooks,
Secretary of the Board.

[FR Doc. 2021-12047 Filed 6-4-21; 11:15 am]

BILLING CODE 7535-01-P